ENVIRONMENTAL PROTECTION AGENCY

40 CFR Part 52

[EPA-R10-OAR-2014-0388 FRL-9913-84-Region 10]

Approval and Promulgation of State Implementation Plans; Idaho: Portneuf Valley PM10 Maintenance Plan Amendment to the Motor Vehicle Emissions Budgets

AGENCY: Environmental Protection Agency (EPA).

ACTION: Direct final rule.

SUMMARY: The Environmental Protection Agency (EPA) is taking direct final action to approve a State Implementation Plan (SIP) revision submitted by the State of Idaho (Idaho or the State) on April 21, 2014, to amend the Portneuf Valley maintenance plan for particulate matter with an aerodynamic diameter less than or equal to a nominal 10 micrometers (PM10). The SIP revision updates the on-road motor vehicle emissions inventory and motor vehicle emissions budgets (MVEBs) using the EPA's Motor Vehicle Emissions Simulator (MOVES2010b) and the most recent road dust emission factors. This rulemaking action approves the SIP revision and thereby makes the MVEBs available for transportation conformity purposes. The EPA is approving this SIP revision because it is consistent with the Clean Cir Act (CAA).

DATES: This rule is effective on September 15, 2014, without further notice, unless the EPA receives adverse comment by August 18, 2014. If the EPA receives adverse comment, we will publish a timely withdrawal in the Federal Register informing the public that the rule will not take effect.

ADDRESSES: Submit your comments, identified by Docket ID No. EPA-R10-OAR-2014-0388, by any of the following methods:

• www.regulations.gov: Follow the on-line instructions for submitting comments.

• Email: pepple.karl@epa.gov.

• Mail: Karl Pepple, U.S. EPA Region 10, Office of Air, Waste and Toxics (AWT-107), 1200 Sixth Avenue, Suite 900, Seattle, WA 98101.

• Hand Delivery/Courier: U.S. EPA Region 10, 1200 Sixth Avenue, Suite 900, Seattle, WA 98101. Attention: Karl Pepple, Office of Air, Waste and Toxics, AWT-107. Such deliveries are only accepted during normal hours of operation, and special arrangements should be made for deliveries of boxed information.

Instructions: Direct your comments to Docket ID No. EPA-R10-OAR-2014-0388. The EPA's policy is that all comments received will be included in the public docket without change and may be made available online at www.regulations.gov, including any personal information provided, unless the comment includes information claimed to be Confidential Business Information (CBI) or other information whose disclosure is restricted by statute. Do not submit information that you consider to be CBI or otherwise protected through www.regulations.gov or email. The www.regulations.gov Web site is an “anonymous access” system, which means the EPA will not know your identity or contact information unless you provide it in the body of your comment. If you send an email comment directly to the EPA without going through www.regulations.gov your email address will be automatically captured and included as part of the comment that is placed in the public docket and made available on the Internet. If you submit an electronic comment, the EPA recommends that you include your name and other contact information in the body of your comment and with any disk or CD-ROM you submit. If the EPA cannot read your comment due to technical difficulties and cannot contact you for clarification, the EPA may not be able to consider your comment. Electronic files should avoid the use of special characters, any form of encryption, and be free of any defects or viruses.

Docket: All documents in the docket are listed in the www.regulations.gov index. Although listed in the index, some information is not publicly available, e.g., CBI or other information whose disclosure is restricted by statute. Certain other material, such as copyrighted material, is not placed on the Internet and will be publicly available only in hard copy. Publicly available docket materials are available either electronically in www.regulations.gov or in hard copy during normal business hours at the Office of Air, Waste and Toxics, U.S. EPA Region 10, 1200 Sixth Avenue, Seattle, WA 98101.

FOR FURTHER INFORMATION CONTACT: Karl Pepple at telephone number: (206) 553-1778, email address: pepple.karl@epa.gov, or the above EPA, Region 10 address.

SUPPLEMENTARY INFORMATION: Throughout this document whenever “we,” “us,” or “our” is used, we mean the EPA.

I. Background for This Action

In 2004, Idaho requested that the EPA redesignate the Portneuf Valley area from nonattainment to attainment for PM10 and submitted a maintenance plan (2004 maintenance plan) that demonstrated attainment of the PM10 NAAQS through 2020. The EPA approved Idaho's submittal on July 13, 2006 (71 FR 39574). The 2004 maintenance plan included an on-road motor vehicle emissions inventory and MVEBs for PM10, volatile organic compounds (VOC) and nitrogen oxides (NOX).

The MVEBs serve as a ceiling on emissions from an area's planned transportation system. Under section 176(c) of the CAA, transportation plans and projects must “conform” to (i.e., be consistent with) the SIP before they can be adopted or approved. Conformity to the SIP means that transportation activities will not cause new air quality violations, worsen existing air quality violations, or delay timely attainment of the NAAQS or delay an interim milestone. The MVEB is the mechanism the EPA has identified for carrying out the demonstration of consistency with the SIP. For more information about MVEBs see the preamble to the November 24, 1993, transportation conformity rule (58 FR 62188).

In the 2004 maintenance plan, the on-road motor vehicle emissions inventory and MVEBs were developed using the EPA's motor vehicle emission factor model, MOBILE6, and paved road dust emissions factors calculated with the 1995 version of the EPA's AP-42, Compilation of Air Pollutant Emission Factors (AP-42).¹ Throughout this document, we refer to the on-road vehicle emissions inventory and MVEBs in the 2004 maintenance plan as the “existing” on-road vehicle emissions inventory and MVEBs.

¹ For information on paved road dust emission factors, see AP-42, chapter 13, section 2.1, http://www.epa.gov/ttn/chief/ap42/index.html#toc.

On March 2, 2010 (75 FR 9411), the EPA published a notice of availability of the MOVES2010 model for use in developing MVEBs for SIPs and for conducting transportation conformity analyses. The MOVES2010 model is the EPA's state of the art tool for estimating highway emissions. The EPA subsequently released two minor model revisions: MOVES2010a in September 2010, and MOVES2010b in April 2012. On February 4, 2011 (76 FR 6328), the EPA announced an update to the AP-42 method for estimating paved road dust emissions (2011 AP-42). MOVES2010 and the 2011 AP-42 paved road dust emissions factors are required to be used in new regional emissions analyses for transportation conformity determinations in the Portneuf Valley PM10 maintenance area. Idaho and the Bannock Transportation Planning Organization examined how the new methods would affect future transportation conformity determinations. Idaho opted to submit a SIP revision to update the existing MVEBs with MOVES2010b, the 2011 AP-42 paved road dust emission factors, and the latest planning assumptions. The EPA received Idaho's SIP revision on April 21, 2014.

II. The EPA's Evaluation of Idaho's SIP Revision

Idaho's SIP revision changed only the on-road motor vehicle emissions in the 2004 maintenance plan. The SIP revision updated the on-road vehicle emissions inventory and the MVEBs using MOVES2010b and the 2011 AP-42 paved road dust emissions factors and used the latest planning assumptions. Idaho explained that the point and area source emissions in the 2004 maintenance plan remained unchanged. The growth assumptions remained valid as did the control strategy assumptions for categories other than on-road vehicles. However, Idaho documented major changes in sand usage for wintertime antiskid treatments since the analysis used in the 2004 maintenance plan and this change resulted in a significant reduction in paved road dust emissions estimates as calculated using the 2011 AP-42 paved road dust method. As a result of the updated modeling and planning assumptions, the on-road emissions inventory has lower estimates for direct PM10 emissions and higher estimates for NOX and VOC emissions than the existing on-road emissions inventory did. The EPA notes that the increases in emissions estimates for NOX and VOC are not due to increases in emissions from on-road motor vehicles, but rather because MOVES2010 provides more accurate emissions estimates than the MOBILE6 model did.

To assess the maximum effect of the updated modeling and planning assumptions on net PM10 emissions in the airshed, Idaho used a 100% conversion rate for NOX to ammonium nitrate to compare the updated on-road emissions inventory to the existing MVEBs. Based on this analysis, the net PM10 calculated emissions were lower in the updated on-road emissions inventory than in the existing MVEBs. Although the results of the analysis showed greater PM10 emissions in the updated on-road emissions inventory from secondary particle formation than in the existing MVEBs, it showed lower PM10 emissions from directly emitted PM10. Thus, Idaho concluded that the reductions in paved road dust emissions estimates were greater than the increases that occurred from the MOBILE6 to MOVES2010b modeling changes.

As provided for in the transportation conformity rule (40 CFR 93.124(a)), Idaho developed updated MVEBs by adding a safety margin to the updated on-road emissions inventory estimates. The safety margin was calculated from the difference in emissions between the updated on-road emissions inventory and the existing MVEBs.² Idaho demonstrated that the net PM10 calculated emissions in the updated and existing MVEBs were equivalent. The updated MVEBs for the years 2011 and 2020 are shown in the table below.

² Idaho added a 3.1% safety margin to the on-road emissions estimates for the 2011 MVEB and a 31.5% safety margin for the 2020 MVEB.

Updated MVEBs for the Portneuf Valley PM10 Area
[Tons per year]
Year | PM10 | NOX | VOC
2011 | 415 | 1,364 | 903
2020 | 498 | 856 | 651

The EPA evaluated the updated on-road vehicle emission inventory and the MVEBs in Idaho's SIP revision and concluded that the SIP continues to demonstrate its purpose of maintaining the PM10 NAAQS through the year 2020 because the total PM10 emissions from on-road vehicles in the SIP revision are equivalent to the total PM10 emissions from on-road vehicles in the 2004 maintenance plan.

III. Final Action

The EPA is taking direct final action to approve the SIP revision submitted on April 21, 2014, by the State of Idaho to the Portneuf Valley PM10 Maintenance Plan. The SIP revision includes MVEBs that were developed with the MOVES2010b model the 2011 AP-42 paved road dust emission factors. Upon the effective date of our approval, the MOBILE6-based budgets in the existing SIP will no longer be applicable for transportation conformity purposes.

IV. Statutory and Executive Order Reviews

Under the CAA, the Administrator is required to approve a SIP submission that complies with the provisions of the CAA and applicable Federal regulations. 42 U.S.C. 7410(k); 40 CFR 52.02(a). Thus, in reviewing SIP submissions, the EPA's role is to approve state choices, provided that they meet the criteria of the CAA. Accordingly, this action merely approves state law as meeting Federal requirements and does not impose additional requirements beyond those imposed by state law. For that reason, this action:

• Is not a “significant regulatory action” subject to review by the Office of Management and Budget under Executive Order 12866 (58 FR 51735, October 4, 1993);

• does not impose an information collection burden under the provisions of the Paperwork Reduction Act (44 U.S.C. 3501 et seq.);

• is certified as not having a significant economic impact on a substantial number of small entities under the Regulatory Flexibility Act (5 U.S.C. 601 et seq.);

• does not contain any unfunded mandate or significantly or uniquely affect small governments, as described in the Unfunded Mandates Reform Act of 1995 (Pub. L. 104-4);

• does not have Federalism implications as specified in Executive Order 13132 (64 FR 43255, August 10, 1999);

• is not an economically significant regulatory action based on health or safety risks subject to Executive Order 13045 (62 FR 19885, April 23, 1997);

• is not a significant regulatory action subject to Executive Order 13211 (66 FR 28355, May 22, 2001);

• is not subject to requirements of Section 12(d) of the National Technology Transfer and Advancement Act of 1995 (15 U.S.C. 272 note) because application of those requirements would be inconsistent with the CAA; and

• does not provide the EPA with the discretionary authority to address, as appropriate, disproportionate human health or environmental effects, using practicable and legally permissible methods, under Executive Order 12898 (59 FR 7629, February 16, 1994).

In addition, this rule does not have tribal implications as specified by Executive Order 13175 (65 FR 67249, November 9, 2000), because it will not impose substantial direct costs on tribal governments or preempt tribal law.

The Congressional Review Act, 5 U.S.C. 801, et seq., as added by the Small Business Regulatory Enforcement Fairness Act of 1996, generally provides that before a rule may take effect, the agency promulgating the rule must submit a rule report, which includes a copy of the rule, to each House of the Congress and to the Comptroller General of the United States. The EPA will submit a report containing this action and other required information to the U.S. Senate, the U.S. House of Representatives, and the Comptroller General of the United States prior to publication of the rule in the Federal Register. A major rule cannot take effect until 60 days after it is published in the Federal Register. This action is not a “major rule” as defined by 5 U.S.C. 804(2).

Under section 307(b)(1) of the CAA, petitions for judicial review of this action must be filed in the United States Court of Appeals for the appropriate circuit by September 15, 2014. Filing a petition for reconsideration by the Administrator of this final rule does not affect the finality of this action for the purposes of judicial review nor does it extend the time within which a petition for judicial review may be filed, and shall not postpone the effectiveness of such rule or action. Parties with objections to this direct final rule are encouraged to file a comment in response to the parallel notice of proposed rulemaking for this action published in the proposed rules section of today's Federal Register, rather than file an immediate petition for judicial review of this direct final rule, so that the EPA can withdraw this direct final rule and address the comment in the proposed rulemaking. This action may not be challenged later in proceedings to enforce its requirements. (See CAA section 307(b)(2).)

List of Subjects in 40 CFR Part 52

Environmental protection, Air pollution control, Incorporation by reference, Nitrogen dioxides, Particulate Matter, Reporting and recordkeeping requirements, and Volatile organic compounds.

Dated: July 2, 2014.
Dennis J. McLerran,
Regional Administrator, Region 10.

For the reasons set out in the preamble, title 40, chapter I of the Code of Federal Regulations is amended as follows:

PART 52—APPROVAL AND PROMULGATION OF IMPLEMENTATION PLANS

1. The authority citation for part 52 continues to read as follows:

Authority: 42 U.S.C. 7401 et seq.

Subpart N—Idaho

2. Section 52.670 is amended in paragraph (e) by adding two entries to the end of the table to read as follows:

§ 52.670 Identification of plan.

* * * * *

(e) * * *

EPA-Approved Idaho Nonregulatory Provisions and Quasi-Regulatory Measures
Name of SIP provision | Applicable geographic or nonattainment area | State submittal date | EPA approval date | Comments
* * * * * * *
Portneuf Valley PM10 Nonattainment Area Plan and Maintenance Plan | Portneuf Valley | 7/13/06 | 71 FR 39574 |
Portneuf Valley PM10 Maintenance Plan—Revision | Portneuf Valley | 04/21/14 | 07/17/14 [Insert page number where the document begins] |

3. Section 52.672 is amended by adding paragraph (e)(2) to read as follows:

§ 52.672 Approval of plans.

* * * * *

(e) * * *

(2) The EPA approves as a revision to the Idaho State Implementation Plan, the Portneuf Valley PM10 Maintenance Plan Amendment submitted by the State on April 21, 2011, revising the Portneuf Valley PM10 Nonattainment Area Plan and Maintenance Plan that was approved at 71 FR 39574 (July 13, 2006).

* * * * *

[FR Doc. 2014-16760 Filed 7-16-14; 8:45 am]

BILLING CODE 6560-50-P